NATIONAL CRIME PREVENTION AND PRIVACY COMPACT COUNCIL

Notice of Approval of Florida Proposal

AGENCY: National Crime Prevention and Privacy Compact Council.

ACTION: Notice of approval of Florida proposal.

SUMMARY: Pursuant to 28 CFR chapter IX, the Compact Council established by the National Crime Prevention and Privacy Compact has approved a proposal from the State of Florida authorizing access to the Interstate Identification Index (III) system on a delayed fingerprint submission basis for conducting criminal history record checks in connection with the placement of children with temporary custodians on an emergency basis. In approving the proposal, the Compact Council took note of the recommendation of the Criminal Justice Information Services Advisory Policy Board to allow governmental agencies authorized by an approved state statute to conduct “preliminary III name checks” for all persons occupying the residence at the time when children are placed in such residences on an emergency basis.

The approved proposal authorizes III access on a delayed fingerprint submission basis by the Florida Department of Children and Family Services which is authorized to make emergency placements of children by a Florida statute which has been approved by the U.S. Attorney General pursuant to Pub. L. 92-544. Pursuant to the approved proposal, fingerprints are to be submitted as a follow-up to the III name-based check within five working days from such time the name checks are conducted. For the purposes of the proposal, working day is defined as a day when a governmental agency is open for business.

Pursuant to Section 901.3 of 28 CFR, chapter IX, other States may apply to the FBI's Compact Officer for authority to grant delayed fingerprint submission access to governmental agencies authorized by approved state statutes to make emergency child placements. Such application must explain why the submission of fingerprints contemporaneously with search requests is not feasible and must justify the length of the requested delay in the submission of such fingerprints.

Proposals should be sent to the FBI's Compact Officer at Criminal Justice Information Services, Attn: FBI Compact Officer, 1000 Custer Hollow Road, Clarksburg, WV 26306.

Dated: May 3, 2001.
Wilbur Rehmann,
Chairman, Compact Council.

[FR Doc. 01-12534 Filed 5-18-01; 8:45 am]

BILLING CODE 4410-02-U